DEPARTMENT OF THE INTERIOR

Bureau of Land Management

[NM-070-00-1310-AC]

Notice of Intent To (1) Prepare a Revision to the Farmington Resource management Plan and (2) Prepare an Amendment (Oil and Gas) to the Rio Puerco Resource Management Plan. Call for Coal Information and Invitation To Participate in Identification of Issues and Planning Criteria

AGENCY: Bureau of Land Management, Interior.

ACTION: Notice of intent and call for coal information.

SUMMARY: The Bureau of Land Management (BLM), Farmington Field Office, New Mexico, is initiating the preparation of a Resource Management Plan Revision (RMP Revision) and Amendment which will include an Environmental Impact Statement (EIS). The RMP Revision will establish land use management policy for multiple resource uses on approximately 1.5 million acres of public land and 2.26 million acres of federal mineral resources in the Farmington Field Office. The RMP will estimate reasonable foreseeable development (RFD) of federal oil and gas mineral resources in the San Juan Basin portions of the Albuquerque and Farmington Field Offices. The Code of Federal Regulations, Title 43, Subpart 1600, will be followed for this planning effort. The public is invited to participate in the planning process, beginning with the identification of issues and planning criteria for the RMP Revision.

This notice also solicits coal resource information for federal minerals located adjacent to existing mines pursuant to 43 CFR 3420.1-2 for inclusion in the RMP Revision. Coal companies, state and local governments, and the general public is encouraged to submit information to the BLM to assist in the determinations of coal development potential and possible conflicts with other resources. If this information is determined to indicate development potential, further considerations for leasing will be given.

DATES: Comments relating to the identification of issues, planning criteria and information submitted for the Call for Coal Information will be accepted until October 16, 2000.

ADDRESSES: Send comments to: BLM, Farmington Field Office, RMP Revision, 1235 La Plata Highway, Suite A, Farmington, NM 87401.

FOR FURTHER INFORMATION CONTACT: Steve Henke, Project Manager, Albuquerque Field Office, NM, (505) 761-8935.

SUPPLEMENTARY INFORMATION: The planning area will include the public land (Farmington Field Office) and federal mineral ownership (Albuquerque and Farmington Field Offices) in all or part of McKinley, Rio Arriba, San Juan, and Sandoval Counties. This encompasses approximately 1.5 million acres of BLM-administered surface and 2.26 million acres of federal minerals under federal, state, or private surface in the four-county area in the Farmington Field Office. The planning area also includes the federal minerals located in the San Juan Basin portion of the Albuquerque Field Office (McKinley, Rio Arriba, and Sandoval Counties).

Anticipated issues to be addressed during development of the RMP Revision include, but are not limited to, the following: (1) Which public lands could be transferred to other than BLM-administration and which lands would be beneficial to BLM programs if acquired; (2) which public lands should be designated as open, restricted or closed to motorized vehicle access; (3) which public lands will be considered for special management designation; (4) which federal minerals should be closed to leasing or designated as open to oil and gas development under (a) standard terms and conditions, (b) timing limitations (seasonal) constraints, (c) controlled surface use constraints, or (d) no surface occupancy constraints; and (5) ecosystem function. These preliminary issues are not final and may be further refined by direct input through active public participation. The only program element within the Albuquerque Field Office, that will be addressed during development of the RMP Amendment, is projected oil and gas development in the Albuquerque Field Office for the next 20 years.

Four criteria are proposed to guide the resolution of the issues that will be considered in the RMP Revision.

1. Actions must comply with laws, regulations, and executive orders.

2. Actions must be reasonable and achievable.

3. Actions will be considered for their long-term benefits to the public in relation to short-term benefits.

4. Actions will be considered in an interdisciplinary approach.

Industry and other interested parties are asked to provide any information for areas adjacent to existing mines that will be useful in meeting the requirements of the Federal Coal Management Program defined in 43 CFR part 3420, including application of the coal planning screens and possible future activity planning such as tract delineation, ranking and selection. Information resulting from this call will be used to determine potential for coal development and the likelihood of conflict with other resources.

The issue of federal coal leasing and development will include:

1. Determining areas acceptable for further coal leasing consideration with standard stipulations;

2. Determining areas acceptable for consideration with special stipulations;

3. Determining areas unacceptable for further coal leasing consideration.

The BLM will apply the coal development, unsuitability criteria, multiple use conflict and consultation screens in order to make these determinations.

The type of information needed includes, but is not limited to, the following:

1. Location:

a. Federal coal tracts desired by mining companies should include a narrative description with areas delineated on a map with a scale of not less than ½ inch to the mile.

b. Descriptions of both public and private industry coal users in the general region.

2. Quantity needs (tonnage, dates) for both public and private industry coal users and coal developers.

3. Quality needs (by type and grade) for end users of the coal.

4. Coal reserve drilling data which may pertain to the planning area.

5. Information relating to surface and mineral ownership.

a. Surface owner consents previously granted, whether consent is transferable, surface owner leases with coal companies.

b. Non-federal, or fee coal ownership adjacent to federal tracts currently leased or mined.

6. Other resource values occurring within the planning area which may conflict with coal development:

a. Describe the resource value and locate it on a map with a scale of not less than ½ inch to the mile.

b. State the reasons the particular resource would conflict with coal development. Any individual, business entity, or public body may participate in this process by providing coal or other resource information under this call for information. A public participation plan is being prepared. It is intended to involve interested or affected parties early and continuously throughout the planning process. The public participation plan will emphasize localized one-to-one contacts, media coverage, direct mailings, and continual coordination and collaboration. Meetings will be held to (1) determine the scope of the RMP Revision and Amendment and (2) obtain input on issues and planning criteria. The meetings will be held in Cuba, Crownpoint, and Farmington, New Mexico at the following times and locations.

September 26, 2000, 7 p.m., Cuba, Senior Citizen Center

September 27, 2000, 7 p.m. Crownpoint, Chapter House

September 28, 2000, 7 p.m., Farmington, Civic Center

Complete records of all phases of the planning process will be available for public review at the Farmington Field Office throughout development of the RMP Revision and Amendment. It is estimated it will take approximately 18 months to complete the Proposed RMP Revision and Amendment. Alternatives will be developed and analyzed to resolve the issues addressed in the document. A Draft RMP Revision and Amendment and Draft EIS will be published and made available for a 90-day comment period. Comments made on the Draft RMP Revision and Amendment and Draft EIS will be addressed in a Proposed RMP Revision and Amendment and Final EIS. There will be a 30-day protest period on the Proposed RMP Revision and Amendment for individuals who participated in the planning process.

Dated: August 21, 2000.
M.J. Chavez,
State Director.

[FR Doc. 00-22119 Filed 8-29-00; 8:45 am]

BILLING CODE 4310-FB-M